FEDERAL TRADE COMMISSION

Delegation of Authority To Disclose Certain Nonpublic Information To Foreign Law Enforcement Agencies

AGENCY: Federal Trade Commission.

ACTION: Delegation of Authority.

SUMMARY: The Commission has delegated authority to the Associate Director of Planning and Information to share certain non-public information with the United Kingdom Directorate for Trade and Industry and the United Kingdom Office of Fair Trading.

EFFECTIVE DATE: October 26, 2000.

FOR FURTHER INFORMATION CONTACT: Maneesha Mithal, Attorney, Division of Planning and Information, 202 326-2771, mmithal@ftc.gov.

SUPPLEMENTARY INFORMATION: Notice is hereby given, pursuant to Reorganization Plan No. 4 of 1961, 26 FR 6191, that the Commission has delegated to the Associate Director for Planning and Information the authority to disclose to the United Kingdom Office of Fair Trading and the United Kingdom Directorate for Trade and Industry information regarding consumer protection investigations involving U.K. businesses or consumers.

This delegation does not apply competition-related investigations. Disclosures shall be made only to the extent consistent with limitations on disclosure, including section 6(f) of the FTC Act, 15 U.S.C. 46(f), section 21 of the Act, 15 U.S.C. 57b-2, and Commission Rule 4.10(d), 16 CFR 4.10(d) and with the Commission's enforcement policies and other important interests. When the subject matter of the information to be shared raises significant policy concerns, staff shall consult with the Commission before disclosing such information.

By direction of the Commission.
Donald S. Clark,
Secretary.

[FR Doc. 00-28692 Filed 11-7-00; 8:45 am]

BILLING CODE 6750-01-M